DEPARTMENT OF TRANSPORTATION

Federal Aviation Administration

14 CFR Part 39

[Docket No. FAA-2024-2413; Project Identifier MCAI-2023-00982-A; Amendment 39-22941; AD 2025-02-08]

RIN 2120-AA64

Airworthiness Directives; DAHER AEROSPACE (Type Certificate Previously Held by SOCATA) Airplanes

AGENCY: Federal Aviation Administration (FAA), DOT.

ACTION: Final rule.

SUMMARY: The FAA is adopting a new airworthiness directive (AD) for certain DAHER AEROSPACE (DAHER) Model TBM 700 airplanes. This AD was prompted by certain existing emergency procedures in the pilot's operating handbook (POH) that cannot be fully accomplished since certain equipment cannot be disconnected by the pilot(s) from the flight deck. This AD requires revising the existing POH for your airplane to provide the flight crew with corrected emergency procedures. The FAA is issuing this AD to address the unsafe condition on these products.

DATES: This AD is effective March 19, 2025.

The Director of the Federal Register approved the incorporation by reference of a certain publication listed in this AD as of March 19, 2025.

ADDRESSES:

AD Docket: You may examine the AD docket at regulations.gov under Docket No. FAA-2024-2413; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For DAHER material identified in this AD, contact DAHER AEROSPACE Customer Support, Airplane Business Unit, Tarbes—Cedex 9, France 65921; phone: (833) 826-2273; email: tbmcare@daher.com; website: daher.com.

• You may view this material at the FAA, Airworthiness Products Section, Operational Safety Branch, 901 Locust, Kansas City, MO 64106. For information on the availability of this material at the FAA, call (816) 329-4148. It is also available at regulations.gov under Docket No. FAA-2024-2413.

FOR FURTHER INFORMATION CONTACT: Fred Guerin, Aviation Safety Engineer, FAA, 1600 Stewart Avenue, Suite 410, Westbury, NY 11590; phone: (206) 231-2346; email: fred.guerin@faa.gov.

SUPPLEMENTARY INFORMATION:

Background

The FAA issued a notice of proposed rulemaking (NPRM) to amend 14 CFR part 39 by adding an AD that would apply to certain DAHER Model TBM 700 airplanes. The NPRM published in the Federal Register on October 24, 2024 (89 FR 84838). The NPRM was prompted by European Union Aviation Safety Agency (EASA) AD 2023-0164, dated August 18, 2023 (EASA AD 2023-0164) (also referred to as the MCAI), issued by EASA, which is the Technical Agent for the Member States of the European Union. The MCAI states that the emergency procedures “Cabin Electrical Fire or Smoke During flight” and “Smoke elimination” cannot be fully accomplished since certain equipment cannot be disconnected by the pilot(s) from the flight deck. The MCAI requires incorporating a temporary revision (TR) into the emergency procedures section of the applicable POH, informing all flight crews, and operating the airplane accordingly. This condition, if not corrected, could lead to increased flight crew workload during critical phases of flight, resulting in reduced control of the airplane.

To address the unsafe condition, DAHER published Temporary Revision 30, dated July 2023, to the DAHER Pilot's Operating Handbook, TBM 960, Edition 0, dated January 27, 2022 (DAHER TR 30), which removes the procedures “Cabin Electrical Fire or Smoke During Flight” and “Smoke elimination” of the DAHER Model TBM 960 Pilot's Operating Handbook, Edition 0, dated January 27, 2022, and replaces them with the new emergency procedure “Fire or Smoke in Flight”.

In the NPRM, the FAA proposed to require revising the existing POH for your airplane to provide the flight crew with corrected emergency procedures. The owner/operator (pilot) holding at least a private pilot certificate may revise the existing POH for your airplane and must enter compliance with the applicable paragraph of the AD into the airplane maintenance records in accordance with 14 CFR 43.9(a) and 91.417(a)(2)(v). The pilot may perform this action because it only involves revising the POH. This action could be performed equally well by a pilot or a mechanic. This is an exception to the FAA's standard maintenance regulations.

The FAA is issuing this AD to address the unsafe condition on these products.

You may examine the MCAI in the AD docket at regulations.gov under Docket No. FAA-2024-2413.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. This AD is adopted as proposed in the NPRM.

Material Incorporated by Reference Under 1 CFR Part 51

The FAA reviewed DAHER TR 30, which removes the procedures “Cabin Electrical Fire or Smoke During Flight” and “Smoke elimination” and replaces them with the new emergency procedure “Fire or Smoke in Flight.”

This material is reasonably available because the interested parties have access to it through their normal course of business or by the means identified in the ADDRESSES section.

Clarification of Relationship Between DAHER TR 30 and the AD Applicability

Although the applicability of this AD is certain serial-numbered DAHER Model TBM 700 airplanes, the TR that needs to be inserted into the applicable POH for the owner/operator's airplane is Temporary Revision 30, dated July 2023, to DAHER Pilot's Operating Handbook TBM 960, Edition 0, dated January 27, 2022. The FAA type certificate data sheet (TCDS) specifies Model TBM 700 airplanes, but the notes in the FAA TCDS indicate that, depending on the airplane's serial number and any optional modification installed, an affected Model TBM 700 airplane could have a trade name that includes a “900” designation, including TBM 900, TBM 910, TBM 930, TBM 940, or TBM 960.

Differences Between This AD and the MCAI

EASA AD 2023-0164 includes requirements to “inform all flight crews and, thereafter, operating the airplane accordingly” and this AD does not specifically require those actions because those actions are already required by FAA regulations.

Costs of Compliance

The FAA estimates that this AD affects 930 airplanes of U.S. registry.

The FAA estimates the following costs to comply with this AD:

Estimated Costs
Action | Labor cost | Parts cost | Cost per product | Cost on U.S. operators
Revise POH | 1 work-hour × $85 per hour = $85 | $0 | $85 | $79,050

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-02-08 DAHER AEROSPACE (Type Certificate Previously Held by SOCATA): Amendment 39-22941; Docket No. FAA-2024-2413; Project Identifier MCAI-2023-00982-A.

(a) Effective Date

This airworthiness directive (AD) is effective March 19, 2025.

(b) Affected ADs

None.

(c) Applicability

This AD applies to DAHER AEROSPACE (type certificate previously held by SOCATA) Model TBM 700 airplanes, manufacturer serial numbers 687 through 1491 inclusive, certificated in any category.

(d) Subject

Joint Aircraft System Component (JASC) Code 2600, Fire Protection System.

(e) Unsafe Condition

This AD was prompted by certain emergency procedures in the existing pilot's operating handbook (POH) that cannot be fully accomplished since certain equipment cannot be disconnected by the pilot(s) from the flight deck. The FAA is issuing this AD to address the unsafe condition. The unsafe condition, if not addressed, could lead to increased flight crew workload during critical phases of flight, resulting in reduced control of the airplane.

(f) Compliance

Comply with this AD within the compliance times specified, unless already done.

(g) Required Actions

Within 30 days after the effective date of this AD, revise the existing POH for your airplane by incorporating Temporary Revision 30, dated July 2023, to the DAHER Pilot's Operating Handbook, TBM 960, Edition 0, dated January 27, 2022. The owner/operator (pilot) holding at least a private pilot certificate may revise the existing POH for your airplane and must enter compliance with the applicable paragraph of this AD into the airplane maintenance records in accordance with 14 CFR 43.9(a) and 91.417(a)(2)(v). The record must be maintained as required by 14 CFR 91.417, 121.380, or 135.439.

(h) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (i) of this AD or email to: AMOC@faa.gov. If mailing information, also submit information by email. Before using any approved AMOC, notify your appropriate principal inspector, or lacking a principal inspector, the manager of the local Flight Standards District Office/certificate holding district office.

(i) Additional Information

For more information about this AD, contact Fred Guerin, Aviation Safety Engineer, FAA, 1600 Stewart Avenue, Suite 410, Westbury, NY 11590; phone: (206) 231-2346; email: fred.guerin@faa.gov.

(j) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Temporary Revision 30, dated July 2023, to the DAHER Pilot's Operating Handbook, TBM 960, Edition 0, dated January 27, 2022.

(ii) [Reserved]

(3) For DAHER material identified in this AD, contact DAHER AEROSPACE Customer Support, Airplane Business Unit, Tarbes—Cedex 9, France 65921; phone: (833) 826-2273; email: tbmcare@daher.com; website: daher.com.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on February 4, 2025.
Steven W. Thompson,
Acting Deputy Director, Compliance & Airworthiness Division, Aircraft Certification Service.

[FR Doc. 2025-02409 Filed 2-11-25; 8:45 am]

BILLING CODE 4910-13-P